DEPARTMENT OF TRANSPORTATION

Federal Transit Administration Federal Highway Administration

Environmental Impact Statement (EIS) for the I-90 Project; Notice of Intent

AGENCIES: Federal Transit Administration, DOT and Federal Highway Administration, DOT.

ACTION: Notice of Intent to prepare an Environmental Impact Statement (EIS).

SUMMARY: The Federal Transit Administration (FTA), the Federal Highway Administration (FHWA), the Washington State Department of Transportation (WSDOT) and the Central Puget Sound Regional Transit Authority (Sound Transit) intend to prepare an EIS in accordance with the National Environmental Policy Act (NEPA) on the I-90 Project. The project proposes to design and construct modifications to I-90 between Bellevue and Seattle in Order to improve the reliability of connections to the region-wide transit network. The modifications could include changing the operation number and/or width of existing traffic lanes, and adding connections between the new I-90 traffic lanes and existing ramps. Traffic congestion eastbound in the morning and westbound in he evening has degraded transit reliability in both directions on I-90. Scoping will be accomplished through meetings and correspondence with interested persons, organizations, the general public, federal, state and local agencies and tribes.

DATES: Comment Due Date: Written comments on the scope of the alternatives and impacts to be considered should be sent to Sound Transit by December 17, 2001. See ADDRESSES below, Scoping meetings: Public scoping meetings will be held on Tuesday, December 4, 2001 from 4 p.m. to 7 p.m. in Bellevue at the Leavitt Building and on Wednesday, December 5, 2001 from 4 p.m. to 7 p.m. at Mercer Island High School Commons and on Thursday, December 6, 2001 from 4 p.m. to 7 p.m. at Union Station. See ADDRESSES below.

ADDRESSES: Written comments on the project scope of alternatives and impacts to be considered should be sent to Perry Weinberg, Sound Transit, 401 South Jackson St., Seattle, WA 98104-2826 by December 17, 2001 (30 day comment period). Scoping meetings will be held on the following days and locations:

Public Scoping Meetings

Tuesday, December 4, 2001, 4-7 p.m.,

Location: Leavitt Building—Room 1AB, 301 116th Avenue SE (Bellevue City Hall Complex), Bellevue, Washington, and

Wednesday, December 5, 2001, 4 p.m.-7 p.m.,

Location: Mercer Island High School Commons, 9100 SE 42nd street, Mercer Island, Washington, and

Thursday, December 6, 2001, 4 pm-7p.m.

Location: Union Station—Sound Transit Board Room, 401 S. Jackson Street, Seattle, Washington.

FOR FURTHER INFORMATION CONTACT: John Witmer, Federal Transit Administration. 915 2nd Avenue Suite 3142, Seattle, WA 98174; Telephone: 206.220.7964; Jim Leonard, Federal Highway Administration, 711 S. Capitol Way, Suite 501, Olympia, Washington, 98501. Telephone: 360.753.9408; Perry Weinberg, Sound Transit, 401 S. Jackson Street, Seattle, WA 98104-2826, Telephone: 206.689.4931 or Ben Brown, WSDOT, P.O. Box 330310, Seattle, WA 98133-9710, Telephone: 206.440.4528.

SUPPLEMENTARY INFORMATION:

I. Scoping

The FTA, FHWA, WSDOT and Sound Transit invite comments from interested individuals, organizations, and federal, state, regional and local agencies for a period of 30 days after publication of this notice. Letters describing the proposed action and soliciting comments will be sent to appropriate Federal, State, and local agencies, and to private organizations and citizens who have previously expressed or are known to have interest in this proposal. (See DATES and ADDRESSES above). To ensure that the full range of issues related to this proposed action are addressed and all significant issues identified, comments and suggestions are invited from all interested parties. Comments or questions concerning this proposed action and the EIS should be directed to FTA or Sound Transit at the addresses provided above. Comments are requested by December 17, 2001. A project newsletter describing the project, the proposed alternatives, the impact areas to be evaluated, the public involvement program and the preliminary project schedule has been prepared. You may request a copy of the newsletter by contracting Carol Masnik, Sound Transit, 401 South Jackson St., Seattle, WA 98104-2826. Telephone: 206.398.5048. All of the locations for the scoping meeting are accessible to people with disabilities. Non-English translation services and accessible formats are available by request at 800.201.4900 (voice)— or 206.398.5410 (TTY).

II. Study Area and Alternatives

FTA, FHWA, WSDOT and the Central Puget Sound Regional Transit Authority (Sound Transit) will prepare an EIS for the I-90 project which is evaluating alternatives to provide reliable two-way transit operations on the I-90 corridor between Bellevue and Seattle. Alternatives under preliminary consideration include;

No Build—Alternative R-1

Under the No Build Alternative, the existing I-90 roadway facilities would remain in place, however, it is likely that there would be operational revisions to the center roadway by 2007. These changes could include restricting the use of the center roadway to high occupancy vehicles (HOV) traffic, which would displace single occupancy vehicles (SOVs) traveling between Seattle and Mercer Island to the outer roadways, and/or change the HOV eligibility requirements from 2+ or 3+ occupants per vehicle.

Alternative R-2B Modified—Two-Way Center Roadway

Alternative R-2B would convert the center roadway to two-way operation by adding a concrete barrier, providing one travel lane in each direction for its full length. Two additional ramps would be constructed on Mercer Island at 77th and 80th Avenues to complete the downtown interchange with the center roadway. The Bellevue Way ramp would be converted to two-way operation. This alternative would address concerns about breakdowns by providing additional center roadway width across Mercer Island and by removing the barrier between the westbound lanes and the center roadway on the Homer M. Hadley floating bridge, providing a buffer area for cars or buses to pull over in the event of an emergency. The center roadway would be restricted to transit and eligible carpools for its entire length. HOV eligibility requirements would likely be changed from 2+ to 3+ occupants per vehicle with this alternative.

Alternative R-5 Restripe—Transit-Only Shoulders on Outer Roadway

Alternative R-5 would retain the reversible operations in the center roadway, with both lanes operating in the same direction. R-5 would restripe the outer roadways, narrowing lane and inside shoulder widths to create transit-only shoulder lanes operating on the outside shoulders. These shoulder lanes would be open to eastbound transit buses in the morning peak period and westbound transit buses in the afternoon peak period.

Alternative R-5 Modified—Transit-Only Shoulders on Outer Roadway

Alternative R-5 Modified would operate similarly to Alternative R-5 Restripe and would retain the reversible operations in the center roadway. In addition, it would reconfigure portions of the outer roadway to allow for a wider inside shoulder for westbound buses, providing continuity with the existing HOV lane and transit connections to downtown Seattle. Ramps at Bellevue Way and on Mercer Island would be modified to provide connections to the westbound transit shoulder. The eastbound outer roadway would be widened to allow for standard inside shoulder and traffic lane widths on Mercer Island while providing a wider outside shoulder for use by transit.

Alternative R-8A—Add HOV Lanes on Outer Roadway

Alternative R-8A would retain the current reversible operations in the center roadway, with both lanes operating in the same direction. Single-occupant vehicles would only be allowed to use the center roadway between Seattle and Mercer Island, per the existing restrictions on center roadway use. The outer roadways would be modified to provide one additional travel lane in both the eastbound and westbound direction for use by HOV traffic. This would be accomplished by restriping, reducing the width of existing shoulders and travel lanes, and where feasible, widening the outer roadways within the existing right-of-way. Ramps at Bellevue Way and on Mercer Island would be modified to provide connections to the HOV lanes. The center and outer roadway HOV lanes would likely operate with a 2+ occupants per vehicle posting. A number of operational strategies to address safety concerns associated with reduced-width travel lanes and shoulders would be evaluated.

Transportation Demand Management (TDM)/Transportation System Management (TSM) Alternative

The TDM/TSM Alternative would incorporate measures to reduce demands on the transportation system. Examples of TDM/TSM may include ridesharing, parking management, telecommuting, congestion pricing, non-motorized travel, site design standards, public information, joint use of parking facilities, and other measures.

The list of alternatives to be included in the EIS will be finalized after scoping, based on the comments received.

III. Probable Effects

The lead agencies have identified the following key areas for discussion in the EIS:

• Impacts to the visual quality of the I-90 corridor.

• Impacts to vehicular traffic including issues of safety.

• Impacts to the existing bike/pedestrian path along I-90.

• Impacts on water quality in Mercer Slough and Lake Washington.

Other key area of probable effects may be identified and discussed in the EIS process.

Linda Gehrke,
Deputy Regional Administrator, Region X, Federal Transit Administration.
Jim Leonard,
Urban Transportation and Environmental Engineer, Federal Highway Administration, Washington, Division Office.

[FR Doc. 01-28160 Filed 11-8-01; 8:45 am]

BILLING CODE 4910-22-P (FHA); 4910-57-P (FTA)